DEPARTMENT OF THE INTERIOR

Bureau of Land Management

[WO-880-9500-PF-24 1A; OMB Approval Number 1004-0109]

Information Collection Submitted to the Office of Management and Budget Under the Paperwork Reduction Act

The Bureau of Land Management (BLM) has submitted a request to extend the current approved collection to the Office of Management and Budget (OMB) under the provisions of the Paperwork Reduction Act (44 U.S.C. 3501 et seq.). On August 5, 2002, the BLM published a notice in the Federal Register (67 FR 50690) requesting comment on this information collection. The comment period ended on October 4, 2002. BLM received no comments. You may obtain copies of the collection of information and related forms and explanatory material by contacting the BLM Information Collection Clearance Officer at the telephone number listed below.

The OMB must respond to this request within 60 days but may respond after 30 days. For maximum consideration your comments and suggestions on the requirement should be directed to the Office of Management and Budget, Interior Department Desk Officer (1004-0109), at OMB-OIRA via facsimile to (202) 395-5806 or e-mail to Ruth Solomon@omb.eop.gov. Please provide a copy of your comments to the Bureau Information Collection Clearance Officer (WO-630), Bureau of Land Management, Eastern States Office, 7450 Boston Blvd., Springfield, Virginia 22153.

Nature of Comments: We specifically request your comments on the following:

1. Whether the collection of information is necessary for the proper functioning of the BLM, including whether the information will have practical utility;

2. The accuracy of the BLM's estimate of the burden of collecting the information, including the validity of the methodology and assumptions used;

3. The quality, utility and clarity of the information to be collected; and

4. How to minimize the burden of collecting the information on those who are to respond, including the use of appropriate automated electronic, mechanical, or other forms of information technology.

Title: Statement of Federal Land Payments (43 CFR 1881).

OMB Approval Number: 1004-0109.

Bureau Form Number: None.

Abstract: We collect the statutorily required information to compute payments due units of general local government under the Payments in Lieu of Taxes (PILT) Act. The Act requires the governor of each State to furnish a statement as to the amounts paid to units of general local government under 11 receipt sharing statutes in the prior fiscal year.

Frequency: Once.

Description of Respondents: Respondents are State governments.

Estimated Completion Time: 20 hours.

Annual Responses: 50.

Application Fee Per Response: $0.

Annual Burden Hours: 1,000.

Bureau Clearance Officer: Michael Schwartz, (202) 452-5033.

Dated: November 6, 2002.
Michael H. Schwartz,
Bureau of Land Management, Information Collection Clearance Officer.

[FR Doc. 03-12926 Filed 5-22-03; 8:45 am]

BILLING CODE 4310-84-M